DEPARTMENT OF COMMERCE

International Trade Administration

[A-570-908]

Postponement of Preliminary Determination of Antidumping Duty Investigation: Sodium Hexametaphosphate from the People's Republic of China

AGENCY: Import Administration, International Trade Administration, Department of Commerce.

EFFECTIVE DATE: July 11, 2007.

FOR FURTHER INFORMATION CONTACT: Erin Begnal or Kristina Horgan, Import Administration, International Trade Administration, U.S. Department of Commerce, 14th Street and Constitution Avenue, N.W., Washington, DC 20230; telephone: (202) 482-1442 or (202) 482-8173, respectively.

SUPPLEMENTARY INFORMATION:

Postponement of Preliminary Determination

On February 28, 2007, the Department of Commerce (“Department”) initiated the antidumping duty investigation of sodium hexametaphosphate from the People's Republic of China. See Initiation of Antidumping Duty Investigation: Sodium Hexametaphosphate From the People's Republic of China, 72 FR 9926 (March 6, 2007) (“Initiation Notice”); see also Notice of Correction of Initiation of Antidumping Duty Investigation: Sodium Hexametaphosphate from the People's Republic of China, 72 FR 11325 (March 13, 2007). The notice of initiation stated that the Department would make its preliminary determination for this antidumping duty investigation no later than 140 days after the date of issuance of the initiation.

On June 25, 2007, ICL Performance Products, LP and Innophos, Inc. (“Petitioners”) made a timely request pursuant to 19 CFR 351.205(e) and section 733(c)(1)(A) of the Tariff Act of 1930, as amended (“the Act”) for a postponement of the preliminary determination. Petitioners requested postponement of the preliminary determination to allow the Department additional time in which to review the complex questionnaire responses and issue requests for clarification and additional information.

For the reasons identified by the Petitioners, and because there are no compelling reasons to deny the request, the Department is postponing the preliminary determination under section 733(c)(1)(A) of the Act, by 50 days to September 6, 2007. The deadline for the final determination will continue to be 75 days after the date of the preliminary determination, unless extended.

This notice is issued and published pursuant to sections 733(c)(2) of the Act and 19 CFR 351.205(f)(1).

Dated: July 2, 2007.
David Spooner,
Assistant Secretary for Import Administration.

[FR Doc. E7-13378 Filed 7-10-07; 8:45 am]

BILLING CODE 3510-DS-S